ENVIRONMENTAL PROTECTION AGENCY

[EPA-R05-OAR-2011-0468; FRL-9473-1]

Adequacy Status of the Ohio Portion of the Huntington/Ashland Submitted Annual Fine Particulate Matter Maintenance Plan for Transportation Conformity Purposes

AGENCY: Environmental Protection Agency (EPA).

ACTION: Notice of adequacy.

SUMMARY: In this notice, EPA is notifying the public that we have made insignificance findings through the transportation conformity adequacy process, under the Clean Air Act, for directly emitted fine particulate matter (PM2.5) and oxides of nitrogen (NOX) in the Ohio portion of the Huntington/Ashland WV-KY-OH area. Ohio submitted the insignificance findings with the redesignation and maintenance plan submittal on May 4, 2011. As a result of our findings, the Ohio portion of the Huntington/Ashland area is no longer required to perform a regional emissions analysis for either directly emitted PM2.5 or NOX as part of future PM2.5 conformity determinations for the 1997 annual PM2.5 air quality standard.

DATES: These findings are effective October 14, 2011.

FOR FURTHER INFORMATION CONTACT: Patricia Morris, Environmental Scientist, Control Strategies Section, Air Programs Branch, Air and Radiation Division, United States Environmental Protection Agency, Region 5, 77 West Jackson Boulevard, Chicago, Illinois 60604, (312) 353-8656, morris.patricia@epa.gov.

SUPPLEMENTARY INFORMATION: Throughout this document, whenever “we”, “us” or “our” is used, we mean EPA.

Background

Today's notice is simply an announcement of findings that we have already made. On August 11, 2011, EPA Region 5 sent a letter to the Ohio Environmental Protection Agency stating that we have made insignificance findings, through the adequacy process, for PM2.5 and NOX for the Ohio portion of the Huntington/Ashland area, as the state had requested in its redesignation and maintenance plan submittal. Receipt of the submittal was announced on EPA's transportation conformity Web site. No comments were received. The findings letter is available at EPA's conformity web site: http://www.epa.gov/otaq/stateresources/transconf/adequacy.htm.

Transportation conformity is required by section 176(c) of the Clean Air Act. EPA's conformity rule requires that transportation plans, programs, and projects conform to state air quality implementation plans and establishes the criteria and procedures for determining whether or not they conform. Conformity to a State Implementation Plan (SIP) indicates that transportation activities will not produce new air quality violations, worsen existing violations, or delay timely attainment of the national ambient air quality standards.

The criteria by which we determine whether a SIP's motor vehicle emission budgets are adequate for transportation conformity purposes are outlined in 40 CFR 93.118(e)(4). We have described our process for determining the adequacy of submitted SIP budgets in our July 1, 2004 preamble, starting at 69 FR 40038, and we used the information in these resources in making our adequacy determination. Please note that an adequacy review is separate from EPA's completeness review, and it should not be used to prejudge EPA's ultimate approval of the SIP. Even if we find a budget adequate, the SIP could later be disapproved.

The findings are available at EPA's transportation conformity Web site: http://www.epa.gov/otaq/stateresources/transconf/adequacy.htm.

Authority: 42 U.S.C. 7401-7671q.

Dated: September 19, 2011.
Susan Hedman,
Regional Administrator, Region 5.

[FR Doc. 2011-25080 Filed 9-28-11; 8:45 am]

BILLING CODE 6560-50-P